DEPARTMENT OF COMMERCE

National Oceanic and Atmospheric Administration

[I.D. 050603C]

New England Fishery Management Council; Public Meetings

AGENCY: National Marine Fisheries Service (NMFS), National Oceanic and Atmospheric Administration (NOAA), Commerce.

ACTION: Notice of public meeting.

SUMMARY: The New England Fishery Management Council (Council) is scheduling a public meeting of its Research Steering Committee in May, 2003. Recommendations from the committee will be brought to the full Council for formal consideration and action, if appropriate.

DATES: The meeting will held on Wednesday, May 28, 2003 at 9:30 a.m.

ADDRESSES: The meeting will be held at the Holiday Inn Peabody, One Newbury Street, Peabody, MA 01960; telephone: (978) 535-4600.

Council address: New England Fishery Management Council, 50 Water Street, Newburyport, MA 01950.

FOR FURTHER INFORMATION CONTACT: Paul J. Howard, Executive Director, New England Fishery Management Council; telephone: (978) 465-0492.

SUPPLEMENTARY INFORMATION: The committee will have a discussion of the results of the recent habitat research scoping meetings and development of habitat priorities for inclusion in a NOAA Fisheries Request for Proposals (RFP). They will further refine the RFP review and evaluation process, including project evaluation criteria. Also on the agenda will be discussion of the status of the Committee's process to incorporate the results of cooperative research into the management arena.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: May 6, 2003.
Peter H. Fricke,
Acting Director, Office of Sustainable Fisheries, National Marine Fisheries Service.

[FR Doc. 03-11736 Filed 5-9-03; 8:45 am]

BILLING CODE 3510-22-S